DEPARTMENT OF TRANSPORTATION

Federal Aviation Administration

14 CFR Part 39

[Docket No. FAA-2012-0111; Directorate Identifier 2011-NM-089-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200 series airplanes; Model A330-300 series airplanes, Model A340-200 series airplanes; Model A340-300 series airplanes; Model A340-541 airplanes; and Model A340-642 airplanes. This proposed AD was prompted by reports of cracks in the bogie pivot pin caused by material heating due to friction between the bogie pivot pin and bush. This proposed AD would require performing a detailed inspection for degradation of the bogie pivot pins and pivot pin bushes of the main and central landing gear for any cracks and damage, and repairing or replacing bogie pivot pins and pivot pin bushes, if necessary. We are proposing this AD to correct and detect cracks and damage to the main and central landing gear, which could result in the collapse of the landing gear and adversely affect the airplane's continued safe flight and landing.

DATES: We must receive comments on this proposed AD by March 26, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0111; Directorate Identifier 2011-NM-089-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0040, dated March 8, 2011 (referred to after this as “the MCAI”), to correct an unsafe condition for the specified products. The MCAI states:

During removals of A330/340 Main Landing Gear Bogie Beams and A340-500/600 Centre Landing Gear Bogie Beams, cracks in the Bogie Pivot Pin (BPP) have been found.

Investigations indicated that the main root cause is material heating due to friction between bogie pivot pin and bush. Consequences of that heating are chrome detachment and stress corrosion cracking (SCC).

This situation, if not corrected, could result in the collapse of the main or central landing gear.

As a precautionary measure, this [EASA] AD requires a one-time [detailed] inspection of the main landing gear (all types of A330 and A340) and central landing gear (A340-500/600 only) to detect degradation * * * of the BPP [and cracks and damages of the bushes], as applicable to aeroplane model, and the reporting of inspections results.

Required actions also include, for certain airplanes, a magnetic particle inspection of the bogie pivot pin for corrosion and base metal cracks. The corrective actions include replacing any cracked or damaged pivot pin bush with a new or serviceable pivot pin bush, and replacing any corroded or cracked bogie pin with a new bogie pin. You may obtain further information by examining the MCAI in the AD docket.

Relevant Service Information

Airbus has issued the following service bulletins:

• Airbus Mandatory Service Bulletin A330-32-3240, including Appendix 1, dated December 8, 2010 (for Model A330-200 series airplanes and Model A330-300 series airplanes);

• Airbus Mandatory Service Bulletin A340-32-4281, including Appendix 1, dated December 8, 2010 (for Model A340-200 series airplanes and Model A340-300 series airplanes); and

• Airbus Mandatory Service Bulletin A340-32-5096, including Appendix 1, dated December 8, 2010 (for Model A340-541 airplanes and A340-642 airplanes).

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 29 products of U.S. registry. We also estimate that it would take about 22 work-hours per product to comply with the basic requirements of this proposed AD. The average labor rate is $85 per work-hour. Based on these figures, we estimate the cost of the proposed AD on U.S. operators to be $54,230, or $1,870 per product.

In addition, we estimate that any necessary follow-on actions would take about 6 work-hours and require parts costing $21,222, for a cost of $21,732 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0111; Directorate Identifier 2011-NM-089-AD.

(a) Comments Due Date

We must receive comments by March 26, 2012.

(b) Affected ADs

None.

(c) Applicability

This AD applies to Airbus Model A330-201, -202, -203, -223, -243, -301, -302, -303, -321, -322, -323, -341, -342, and -343 airplanes; Model A340-211, -212, and -213 airplanes; Model A340-311, -312, and -313 airplanes; Model A340-541 airplanes; and Model A340-642 airplanes; certificated in any category; all manufacturer serial numbers, except those on which Airbus modification 54500 has been embodied in production.

(d) Subject

Air Transport Association (ATA) of America Code 32: Landing Gear.

(e) Reason

This AD was prompted by reports of cracks in the bogie pivot pin caused by material heating due to friction between the bogie pivot pin and bush. We are issuing this AD to correct and detect cracks and damage to the main and central landing gear, which could result in the collapse of the landing gear and adversely affect the airplane's continued safe flight and landing.

(f) Compliance

You are responsible for having the actions required by this AD performed within the compliance times specified, unless the actions have already been done.

(g) Inspection

Within 26 months after the effective date of this AD or within 26 months after the first flight of the airplane, whichever occurs later; but no earlier than 12 months after the first flight of the airplane: Do a detailed inspection for degradation of the bogie pivot pins and pivot pin bushes of the main and central landing gear, for any cracks and damage (i.e., loss of chromium plate, loose chromium, sharp edges), in accordance with the Accomplishment Instructions of the applicable service bulletin specified in paragraph (g)(1), (g)(2), or (g)(3) of this AD.

(1) Airbus Mandatory Service Bulletin A330-32-3240, including Appendix 1, dated December 8, 2010 (for Model A330-200 series airplanes and Model A330-300 series airplanes).

(2) Airbus Mandatory Service Bulletin A340-32-4281, including Appendix 1, dated December 8, 2010 (for Airbus Model A340-200 series airplanes and Model A340-300 series airplanes).

(3) Airbus Mandatory Service Bulletin A340-32-5096, including Appendix 1, dated December 8, 2010 (for Model A340-541 airplanes and A340-642 airplanes).

(h) Corrective Action

If, during the inspection specified in paragraph (g) of this AD, any pivot pin bush is found cracked or damaged: Before further flight, record all findings (both positive and negative), as required by paragraph (k) of this AD, and repair or replace the pivot pin bush with a new or serviceable pivot pin bush, in accordance with the Accomplishment Instructions of the applicable service bulletin specified paragraph (h)(1), (h)(2), or (h)(3) of this AD.

(1) Airbus Mandatory Service Bulletin A330-32-3240, including Appendix 1, dated December 8, 2010 (for Model A330-200 series airplanes and Model A330-300 series airplanes).

(2) Airbus Mandatory Service Bulletin A340-32-4281, including Appendix 1, dated December 8, 2010 (for Airbus Model A340-200 series airplanes and Model A340-300 series airplanes).

(3) Airbus Mandatory Service Bulletin A340-32-5096, including Appendix 1, dated December 8, 2010 (for Model A340-541 airplanes and A340-642 airplanes).

(i) Record Findings and Inspection

If, during the inspection specified in paragraph (g) of this AD, degraded chrome plating on any bogie pivot pin is found: Before further flight, record findings (both positive and negative), as required by paragraph (k) of this AD, and do a non-destructive test (magnetic particle inspection) of the affected bogie pivot pin for corrosion and base metal cracks, in accordance with the Accomplishment Instructions of the applicable service bulletin specified paragraph (i)(1), (i)(2), or (i)(3) of this AD.

(1) Airbus Mandatory Service Bulletin A330-32-3240, including Appendix 1, dated December 8, 2010 (for Model A330-200 series airplanes and Model A330-300 series airplanes).

(2) Airbus Mandatory Service Bulletin A340-32-4281, including Appendix 1, dated December 8, 2010 (for Airbus Model A340-200 series airplanes and Model A340-300 series airplanes).

(3) Airbus Mandatory Service Bulletin A340-32-5096, including Appendix 1, dated December 8, 2010 (for Model A340-541 airplanes and A340-642 airplanes).

(j) Repair or Replacement

If, during the non-destructive test (magnetic particle inspection) specified in paragraph (i) of this AD, the bogie pivot pin is found corroded or the base metal is cracked: Before further flight, repair or replace the bogie pin with a new or serviceable bogie pin, in accordance with the Accomplishment Instructions of the applicable service bulletin specified paragraph (j)(1), (j)(2), or (j)(3) of this AD.

(1) Airbus Mandatory Service Bulletin A330-32-3240, including Appendix 1, dated December 8, 2010 (for Model A330-200 series airplanes and Model A330-300 series airplanes.

(2) Airbus Mandatory Service Bulletin A340-32-4281, including Appendix 1, dated December 8, 2010 (for Airbus Model A340-200 series airplanes and Model A340-300 series airplanes).

(3) Airbus Mandatory Service Bulletin A340-32-5096, including Appendix 1, dated December 8, 2010 (for Model A340-541 airplanes and A340-642 airplanes).

(k) Reporting Requirement

Submit a report of the findings (both positive and negative) of the inspections required by paragraphs (g) and (i) of this AD to Airbus, Customer Services Directorate, 1 Rond Point Maurice Bellonte, 31707 Blagnac Cedex France, ATTN: SDC32 Technical Data and Documentation Services; fax (+33) 5 61 93 28 06; email sb.reporting@airbus.com; at the applicable time specified in paragraph (k)(1) or (k)(2) of this AD. The report must include the inspection results and description of any discrepancies found.

(1) If the inspection was done on or after the effective date of this AD: Submit the report within 90 days after the inspection.

(2) If the inspection was done before the effective date of this AD: Submit the report within 90 days after the effective date of this AD.

(l) Other FAA AD Provisions

The following provisions also apply to this AD:

(1) Alternative Methods of Compliance (AMOCs):

The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Related Information

Refer to MCAI European Aviation Safety Agency Airworthiness Directive 2011-0040, dated March 8, 2011, and the service information specified in paragraphs (m)(1) through (m)(3) of this AD, for related information.

(1) Airbus Mandatory Service Bulletin A330-32-3240, including Appendix 1, dated December 8, 2010.

(2) Airbus Mandatory Service Bulletin A340-32-4281, including Appendix 1, dated December 8, 2010.

(3) Airbus Mandatory Service Bulletin A340-32-5096, including Appendix 1, dated December 8, 2010.

Issued in Renton, Washington on February 3, 2012.
Ali Bahrami,
Manager, Transport Airplane Directorate, Aircraft Certification Service.

[FR Doc. 2012-3105 Filed 2-9-12; 8:45 am]

BILLING CODE 4910-13-P